DEPARTMENT OF THE INTERIOR

Fish and Wildlife Service

[FWS-R8-ES-2025-N007; FXES11130800000-256-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct scientific research to promote conservation or other activities intended to enhance the propagation or survival of endangered or threatened species under the Endangered Species Act (ESA). We invite the public and local, State, Tribal, and Federal agencies to comment on these applications. Before issuing any of the requested permits, we will take into consideration any information that we receive during the public comment period.

DATES: We must receive your written comments on or before January 5, 2026.

ADDRESSES:

Document availability and comment submission: Submit requests for copies of the applications and related documents and submit any comments by one of the following methods. All requests and comments should specify the applicant name(s) and application number(s) (e.g., XXXXXX or PER0001234).

• Email: permitsR8ES@fws.gov.

• U.S. Mail: Tiffany Heitz, Regional Recovery Permit Coordinator, U.S. Fish and Wildlife Service, 2800 Cottage Way, Room W-2606, Sacramento, CA 95825.

FOR FURTHER INFORMATION CONTACT: Tiffany Heitz, via phone at 916-414-6489, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed wildlife species unless a Federal permit is issued that allows such activity. The ESA's definition of “take” of wildlife species includes such activities as pursuing, harassing, trapping, capturing, or collecting, in addition to hunting, shooting, harming, wounding, or killing, or attempting to engage in any such conduct.

A recovery permit issued by us under section 10(a)(1)(A) of the ESA authorizes the permittee to conduct activities with endangered or threatened species for scientific purposes that promote recovery or for enhancement of propagation or survival of the species. These activities often include such prohibited actions as capture and collection of listed wildlife species and removal and reduction to possession of listed plant species from an area of federal jurisdiction. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the permit requests in table 1 are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Table 1—Permit Applications Received
Application No. | Applicant, city, state | Species | Location | Take activity | Permit action
67390A | Benjamin Smith, Irvine, California | • Southwestern willow flycatcher (Empidonax traillii extimus) | CA, NV | Survey using recorded vocalization | Renew.
63422B | U.S. Forest Service Spring Mountain National Recreation Area, Las Vegas, Nevada | • Mount Charleston blue butterfly (Icaricia [Plebejus] shasta charlestonensis) | NV | Survey | Renew.
20186A | Huffman Environmental, LLC., Julian, California | • Quino checkerspot butterfly (Euphydryas editha quino) • Riverside fairy shrimp (Streptocephalus woottoni) • San Diego fairy shrimp (Branchinecta sandiegonensis) | CA | Survey by pursuit, collect adult vouchers, and collect resting eggs | Renew.
PER0121458 | Donald Hardeman Jr., Cedar Hill, Texas | • San Francisco garter snake (Thamnophis sirtalis tetrataenia) | CA | Survey, capture, handle, swab, and release | Amend.
207873 | Carol Thompson, Claremont, California | • Conservancy fairy shrimp (Branchinecta conservatio) • Longhorn fairy shrimp (Branchinecta longiantenna) | CA | Survey, capture, handle, release, collect adult vouchers, and collect resting eggs | Renew and amend.
PER15474162 | Evan Davies, Santa Barbara, California | • Tidewater goby (Eucyclogobius newberryi) | CA | Survey, capture, handle, and release | New.
PER15476846 | Lindsey Koos, Roseville, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod resting eggs | New.
12069D | Ryan Layden, San Diego, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod resting eggs | Renew.
PER15447319 | Scarlett Stromer, Redding, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod resting eggs | New.
PER15481587 | Pedro Garcia, Visalia, California | • Giant kangaroo rat (Dipodomys ingens) • Tipton kangaroo rat (Dipodomys nitratoides nitratoides) • Fresno kangaroo rat (Dipodomys nitratoides exilis) | CA | Survey, capture, handle, and release | New.
98536C | Stillwater Sciences, Berkeley, California | • Southwestern willow flycatcher (Empidonax traillii extimus) | AZ, CA, CO, NM, NV, UT | Survey using recorded vocalization | Amend.
PER15832724 | Velvet L Park, Santa Ana, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod resting eggs | New.
049175 | Melanie Dicus, Black Canyon City, Arizona | • Quino checkerspot butterfly (Euphydryas editha quino) • Delhi Sands flower-loving fly (Rhaphiomidas terminatus abdominalis) | CA | Survey by pursuit | Renew.
PER12023170 | Levi Lewis, Santa Rosa, California | • Longfin smelt (Spirinchus thaleichthys) San Francisco Bay-Delta distinct population segment | CA | Survey, capture, handle, collect, transport, and release | New.
PER15840613 | David Smith, Santa Ana, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod resting eggs | New.
PER15876302 | Cameron Reid, Fresno, California | • Giant kangaroo rat (Dipodomys ingens) • Tipton kangaroo rat (Dipodomys nitratoides nitratoides) • Fresno kangaroo rat (Dipodomys nitratoides exilis) • Morro Bay kangaroo rat (Dipodomys heermanni morroensis) | CA | Survey, capture, handle, and release | New.
50992B | Antonette Gutierrez, Imperial Beach, California | • Quino checkerspot butterfly (Euphydryas editha quino) • Tidewater goby (Eucyclogobius newberryi) • Southwestern willow flycatcher (Empidonax traillii extimus) • Light-footed Ridgway's rail (Rallus obsoletus levipes) • Least Bell's vireo (Vireo bellii pusillus) | CA | Survey using recorded vocalizations, pursue, capture, handle, release, locate and monitor nests, and remove brown-headed cowbird (Molothrus ater) eggs and chicks from parasitized nests | Renew.
062907 | Andrew Forde, Camarillo, California | • Foothill yellow-legged frog (Rana boylii), South Coast and South Sierra distinct population segments • California tiger salamander (Ambystoma californiense) Santa Barbara County and Sonoma County distinct population segments | CA | Survey, capture, handle, swab, and release | Amend.
827493 | Brian Leatherman, Yorba Linda, California | • Southwestern willow flycatcher (Empidonax traillii extimus) | CA, NV | Survey using recorded vocalizations | Renew.
42850A | California Department of Water Resources, Fresno, California | • California tiger salamander (Ambystoma californiense) Santa Barbara County and Sonoma County distinct population segments | CA | Survey, capture, handle, swab, and release | Renew.
041668 | Cleveland National Forest, San Diego, California | • Southwestern willow flycatcher (Empidonax traillii extimus) • Arroyo (arroyo southwestern) toad (Anaxyrus californicus) • Slender-horned spineflower (Dodecahema leptoceras) • Munz's onion (Allium munzii) • Braunton's milkvetch (Astragalus brauntonii) • Nevin's barberry (Berberis nevinii) • San Diego button celery (Eryngium aristulatum var. parishii) • San Bernardino bluegrass (Poa atropurpurea) | CA | Survey, survey using recorded vocalizations, capture, handle, swab, release, and remove and reduce to possession from Federal lands | Renew.
PER15905281 | Rachel Cotroneo, El Cerrito, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • California tiger salamander (Ambystoma californiense) Santa Barbara County and Sonoma County distinct population segments • California freshwater shrimp (Syncaris pacifica) | CA | Survey, capture, handle, swab, release, collect adult vouchers, and collect branchiopod resting eggs | New.
37609D | Debi Fanucchi, Oakland, California | • California tiger salamander (Ambystoma californiense) Sonoma County distinct population segment | CA | Survey, capture, handle, swab, and release | Renew.
054011 | John Green, Riverside, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Southwestern willow flycatcher (Empidonax traillii extimus) • San Bernardino Merriam's kangaroo rat (Dipodomys merriami parvus) • Yuma Ridgway's rail (Rallus obsoletus yumanensis) • Quino checkerspot butterfly (Euphydryas editha quino) | AZ, CA, CO, TX, NM, NV, UT | Survey, survey using recorded vocalizations, capture, handle, release, collect adult vouchers, and collect branchiopod resting eggs | Renew.
100006 | Freeman Biological, Crescent City, California | • San Francisco garter snake (Thamnophis sirtalis tetrataenia) | CA | Survey, capture, handle, swab, and release | Renew.
177896 | Monterey Bay Aquarium Foundation, Monterey, California | • Longfin smelt (Spirinchus thaleichthys) San Francisco Bay-Delta distinct population segment | CA | Survey, capture, handle, and release | Amend.
82102B | Zoological Society of San Diego, San Diego, California | • California condor (Gymnogyps californianus) | CA | Capture, handle, transport, maintain in captivity, exhibit for public education, captive breed, artificially incubate eggs, exchange eggs, captive rear, collect biological samples, tag, attach radio transmitters, test and monitor for health parameters and medical conditions, and administer health and veterinary services | Renew.
56034B | Joseph Huang, Woodland, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod resting eggs | Renew.
92462A | Ryan Quilley, San Diego, California | • Quino checkerspot butterfly (Euphydryas editha quino) • Light-footed Ridgway's rail (Rallus obsoletus levipes) • Yuma Ridgway's rail (Rallus obsoletus yumanensis) | CA | Survey using recorded vocalizations and pursue | Renew.
811188 | Resource Conservation District of the Santa Monica Mountains, Calabasas, California | • Tidewater goby (Eucyclogobius newberryi) | CA | Survey, capture, handle, release, and collect voucher specimens | Renew.
PER15921421 | Sean O'Neil, Albany, California | • California tiger salamander (Ambystoma californiense) Santa Barbara County and Sonoma County distinct population segments | CA | Survey, capture, handle, swab, and release | New.
41340D | Ariana Rogers, San Leandro, California | • California tiger salamander (Ambystoma californiense) Santa Barbara County and Sonoma County distinct population segments | CA | Survey, capture, handle, swab, and release | Renew.
50094D | Ian Axsom, Atascadero, California | • Conservancy fairy shrimp (Branchinecta conservatio) • Longhorn fairy shrimp (Branchinecta longiantenna) • Vernal pool tadpole shrimp (Lepidurus packardi) | CA | Survey, capture, handle, release, and collect adult vouchers | Renew.
PER15927068 | Ethan Snee, Marysville, California | • Conservancy fairy shrimp (Branchinecta conservatio) • Longhorn fairy shrimp (Branchinecta longiantenna) • Vernal pool tadpole shrimp (Lepidurus packardi) | CA | Survey, capture, handle, release, collect adult vouchers, and collect branchiopod resting eggs | New.
PER15931401 | Elsa Chen, Beale Air Force Base, California | • Conservancy fairy shrimp (Branchinecta conservatio) • Longhorn fairy shrimp (Branchinecta longiantenna) • Vernal pool tadpole shrimp (Lepidurus packardi) | CA | Survey, capture, handle, release, collect adult vouchers, and collect branchiopod resting eggs | New.
42850A | California Department of Water Resources, Fresno, California | • California tiger salamander (Ambystoma californiense) Santa Barbara County and Sonoma County distinct population segments | CA | Survey, capture, handle, swab, and release | Renew.
017549 | Mary Whitfield, Weldon, California | • Southwestern willow flycatcher (Empidonax traillii extimus) • Least Bell's vireo (Vireo belli pusillus) | AZ, CA, NM, NV | Survey using recorded vocalizations; locate and monitor nests; remove brown-headed cowbird eggs and chicks from parasitized nests; capture; handle; band; color-band; collect blood and feathers; attach radio, GPS, or satellite transmitters; hold; transport; release; and conduct workshops | Renew.
69046B | Jim Asmus, Vista, California | • Riverside fairy shrimp (Streptocephalus woottoni) • San Diego fairy shrimp (Branchinecta sandiegonensis) | CA | Survey, capture, handle, release, collect adult vouchers, and collect branchiopod resting eggs | Renew.
63349D | Nicholas Wagner, San Diego, California | • California tiger salamander (Ambystoma californiense) Santa Barbara County and Sonoma County distinct population segments | CA | Survey, capture, handle, swab, and release | Amend.
55035D | Adam Crawford, Sharon, Massachusetts | • California tiger salamander (Ambystoma californiense) Sonoma County distinct population segment | CA | Survey, capture, handle, swab, and release | Renew.
PER0008376 | Mark Noyes, Lincoln, California | • California tiger salamander (Ambystoma californiense) Santa Barbara County and Sonoma County distinct population segments • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, swab, release, collect adult vouchers, and collect branchiopod resting eggs | Renew.
PER0035404 | Melanie Rocks, San Diego, California | • Quino checkerspot butterfly (Euphydryas editha quino) • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, pursue, release, collect adult vouchers, and collect branchiopod resting eggs | Renew.
55171D | Matthew Schliebe, Irvine, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod resting eggs | Renew.
37598D | Ivan Parr, Oakland, California | • California tiger salamander (Ambystoma californiense) Santa Barbara County and Sonoma County distinct population segments • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, swab, release, and collect adult vouchers | Renew.
115370 | Gage Dayton, Santa Cruz, California | • Ohlone tiger beetle (Cicindela ohlone) • Santa Cruz long-toed salamander (Ambystoma macrodactylum croceum) • California tiger salamander (Ambystoma californiense) Santa Barbara County and Sonoma County distinct population segments • Tidewater goby (Eucyclogobius newberryi) | CA | Survey, capture, handle, mark, collect tissue samples, photograph, release, and collect voucher specimens | Renew.
74785A | Barry Nerhus, Fullerton, California | • California least tern (Sternula antillarum browni) • Yuma Ridgway's rail (Rallus obsoletus yumanensis) • Least Bell's vireo (Vireo bellii pusillus) • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, survey using recorded vocalizations, capture, handle, band, color-band, release, locate and monitor nests, collect adult branchiopod vouchers, and collect branchiopod resting eggs | Amend.
63422B | USFS Spring Mountain National Recreation Area, Las Vegas, Nevada | • Mount Charleston blue butterfly (Icaricia [Plebejus] shasta charlestonensis) | NV | Survey, pursue | Renew.
56626B | Robin Dakin, San Jose, California | • California tiger salamander (Ambystoma californiense) Santa Barbara County and Sonoma County distinct population segments | CA | Survey, capture, handle, swab, and release | Renew.
049461 | Jaymee Marty, Sacramento, California | • California tiger salamander (Ambystoma californiense) Santa Barbara County and Sonoma County distinct population segments • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, swab, release, deploy egg laying substrate, collect adult vouchers, and collect branchiopod resting eggs | Renew.
85618B | Biological Resources Services, LLC, Folsom, California | • California tiger salamander (Ambystoma californiense) Santa Barbara County and Sonoma County distinct population segments • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, swab, release, deploy egg laying substrate, and collect adult vouchers | Renew.
56489B | Jonathan Koehler, Corte Madera, California | • California freshwater shrimp (Syncaris pacifica) | CA | Survey, capture, handle, release | Renew.
820658 | AECOM Technical Services, San Diego, California | • California tiger salamander (Ambystoma californiense) Santa Barbara County and Sonoma County distinct population segments • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Quino checkerspot butterfly (Euphydryas editha quino) • Southwestern willow flycatcher (Empidonax traillii extimus) • Light-footed Ridgway's rail (Rallus obsoletus levipes) • Pacific pocket mouse (Perognathus longimembris pacificus) • Giant kangaroo rat (Dipodomys ingens) • Unarmored threespine stickleback (Gasterosteus aculeatus williamsoni) • Tipton kangaroo rat (Dipodomys nitratoides nitratoides) | AZ, CA, NV | Survey, capture, handle, swab, release, deploy egg laying substrate, and collect adult vouchers | Renew.
PER15938037 | Nann Fangue, Davis, California | • Longfin smelt (Spirinchus thaleichthys) San Francisco Bay-Delta distinct population segment | CA | Survey, capture, handle, hold in captivity, captive breed, captive rear, conduct captive research, conduct research of contained specimens in the wild, and release | New.
PER0025594 | John Durand, Davis, California | • Longfin smelt (Spirinchus thaleichthys) San Francisco Bay-Delta distinct population segment | CA | Survey, capture, handle, and release | Amend.
11271B | Heron Pacific, LLC, Rocklin, California | • California tiger salamander (Ambystoma californiense) Santa Barbara County and Sonoma County distinct population segments • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Least Bell's vireo (Vireo bellii pusillus) | CA | Survey, capture, handle, swab, release, collect adult vouchers, and collect resting eggs | Renew and amend.
807078 | Point Blue Conservation Science, Vandenberg Space Force Base, California | • California least tern (Sterna antillarum browni) | CA | Survey, capture, handle, band, tag, attach radio transmitters, and release | Amend.
21778B | Marine Science Institute, Redwood City, California | • Longfin smelt (Spirinchus thaleichthys) San Francisco Bay-Delta distinct population segment | CA | Survey, capture, handle, and release | Amend.
PER17674725 | Kathryn Miller, Walnut Creek, California | • California tiger salamander (Ambystoma californiense) Santa Barbara County and Sonoma County distinct population segments | CA | Survey, capture, handle, swab, and release | New.
PER17732114 | Danika Tsao, Boise, Idaho | • California Ridgway's rail (Rallus obsoletus obsoletus) | CA | Survey using recorded vocalizations | New.
PER17864042 | Kaela Gamio, Red Bluff, California | • Foothill yellow-legged frog (Rana boylii), South Coast distinct population segment | CA | Survey, capture, handle, swab, and release | New.
PER17866437 | Mia Guarnieri, Livermore, California | • California tiger salamander (Ambystoma californiense) Sonoma County distinct population segment | CA | Survey, capture, handle, swab, and release | New
PER17867531 | Whiskeytown National Recreation Area, Whiskeytown, California | • Stebbins' morning-glory (Calystegia stebbinsii) | CA | Collect vouchers and seeds, propagate, and conduct genetic analysis on samples | New.
77120D | University of California, Santa Barbara, California | • Foothill yellow-legged frog (Rana boylii), South Coast and South Sierra distinct population segments | CA | Survey, capture, handle, swab, and release | Amend.
PER0057271 | William Webb, Jr., Larkspur, California | • Foothill yellow-legged frog (Rana boylii), South Coast distinct population segment | CA | Survey, capture, handle, swab, and release | Amend.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials, will be made available for public disclosure in their entirety.

Next Steps

After the comment period closes, we will make decisions regarding permit issuance. If we issue a permit to any of the applicants listed in this notice, we will publish a notice in the Federal Register. You may locate the notice announcing the permit issuance by searching https://www.regulations.gov by the application number listed above in this document. Type in your search exactly as the application number appears above, with spaces and hyphens as necessary. For example, to find information about the potential issuance of Permit No. PER 1234567-0, you would go to https://www.regulations.gov and type “PER 1234567-0” in the Search field.

An interested party opposed to a recovery permit's issuance may object by following the requirements in 50 CFR 17.22(d) and request notification of the final action. The Service will follow the procedures in that section regarding notification of interested parties who file objections to issuance of permits.

Authority

We publish this notice under section 10(c) of the Endangered Species Act of 1973, as amended (16 U.S.C. 1531 et seq.).

Angela Picco,
Regional Threatened and Endangered Lead, Ecological Services Pacific Southwest Region, Sacramento, California.

[FR Doc. 2025-21894 Filed 12-3-25; 8:45 am]

BILLING CODE 4333-15-P